DEPARTMENT OF TRANSPORTATION

Federal Aviation Administration

14 CFR Part 39

[Docket No. FAA-2007-27741; Directorate Identifier 2006-NM-261-AD; Amendment 39-15141; AD 2007-16-02]

RIN 2120-AA64

Airworthiness Directives; Airbus Model A330-201, -202, -203, -223, -243, -301, -321, -322, -323, -341, -342, and -343 Airplanes; and Model A340-200 and -300 Series Airplanes

AGENCY: Federal Aviation Administration (FAA), Department of Transportation (DOT).

ACTION: Final rule.

SUMMARY: We are adopting a new airworthiness directive (AD) for the products listed above. This AD results from mandatory continuing airworthiness information (MCAI) issued by an airworthiness authority of another country to identify and correct an unsafe condition on an aviation product. The MCAI describes the unsafe condition as keel beam rupture, which affects the structural integrity of the area. We are issuing this AD to require actions to correct the unsafe condition on these products.

DATES: This AD becomes effective September 13, 2007.

The Director of the Federal Register approved the incorporation by reference of certain publications listed in this AD as of September 13, 2007.

ADDRESSES: You may examine the AD docket on the Internet at http://dms.dot.gov or in person at the U.S. Department of Transportation, Docket Operations, M-30, West Building Ground Floor, Room W12-140, 1200 New Jersey Avenue, SE., Washington, DC.

FOR FURTHER INFORMATION CONTACT: Tim Backman, Aerospace Engineer, International Branch, ANM-116, FAA, Transport Airplane Directorate, 1601 Lind Avenue SW., Renton, Washington 98057-3356; telephone (425) 227-2797; fax (425) 227-1149.

SUPPLEMENTARY INFORMATION:

Discussion

The FAA is implementing a new process for streamlining the issuance of ADs related to MCAI. This streamlined process will allow us to adopt MCAI safety requirements in a more efficient manner and will reduce safety risks to the public. This process continues to allow all FAA AD issuance processes to meet legal, economic, Administrative Procedure Act, and Federal Register requirements. We also continue to meet our technical decision-making responsibilities to identify and correct unsafe conditions on U.S.-certificated products.

This AD references the MCAI and related service information that we considered in forming the engineering basis to correct the unsafe condition. The AD contains text copied from the MCAI and for this reason might not follow our plain language principles.

We issued a notice of proposed rulemaking (NPRM) to amend 14 CFR part 39 to include an AD that would apply to the specified products. That NPRM was published in the Federal Register on March 30, 2007 (72 FR 15067). That NPRM proposed to require a repetitive special detailed inspection on the horizontal flange of the keel beam in the area of the first fastener hole aft of FR (frame) 40, follow-up actions (further inspections, installation of new fasteners, and sealing the fasteners), and repair if necessary. The MCAI states that during the A330 and A340 aircraft fatigue test, cracks appeared on the right and left sides between the crossing area of the keel beam fitting and the front spar on the center wing box (CWB). This situation if not corrected can lead in the worst case to keel beam rupture, which affects the structural integrity of the area.

Comments

We gave the public the opportunity to participate in developing this AD. We considered the comment received.

Request To Refer to Revised MCAI

Airbus requests we refer to European Aviation Safety Agency (EASA) Airworthiness Directive 2006-0315 R1, dated October 26, 2006, in the AD. (We referred to EASA Airworthiness Directive 2006-0315, dated October 13, 2006, in the NPRM.) Airbus notes that Revision 1 of the EASA airworthiness directive adds an optional terminating action for the repetitive inspections.

We agree with Airbus, and have revised this AD to refer to Revision 1 of the EASA Airworthiness Directive. Revision 1 refers to the following Airbus Service Bulletins as the appropriate sources of service information for doing the optional terminating action: A330-57-3090, dated March 27, 2006; and A340-57-4098, dated March 27, 2006. The modification can be done only on airplanes without Airbus Modification 41652.

The optional terminating action is a modification that involves disconnecting one or more fasteners from the keel beam/bottom skin panel junction, removing two adjacent fasteners in order to perform cold working, and installing interference fit fasteners. The modification also involves inspections and repairing any cracking detected during the modification; in some instances the repair for cracking or for any bushing that has a diameter beyond certain limits specified in the service bulletin is contacting Airbus for repair instructions. We have added paragraph (e)(6) to this AD, and revised paragraph (d) of this AD to include the optional terminating action. We have revised paragraph (g) of this AD to refer to Revision 1 of the MCAI.

Explanation of Change to Paragraph (c)(3) “Applicability”

When we issued the NPRM we noted in paragraph (c)(3) that we were considering rulemaking regarding EASA airworthiness directive 2006-0314. EASA airworthiness directive 2006-0314 applies to Model A340-200 and -300 series airplanes repaired in accordance with certain Airbus repair drawings, and paragraph (c)(3) of the NPRM notes that those airplanes are not affected by the current action. We have since issued AD 2007-12-08, amendment 39-15086 (72 FR 31171, June 6, 2007), which is the parallel FAA AD to EASA airworthiness directive 2006-0314. We have changed paragraph (c)(3) of this AD to refer to AD 2007-12-08.

Conclusion

We reviewed the available data, including the comment received, and determined that air safety and the public interest require adopting the AD with the changes described previously. We determined that these changes will not increase the economic burden on any operator or increase the scope of the AD.

Differences Between This AD and the MCAI or Service Information

We have reviewed the MCAI and related service information and, in general, agree with their substance. But we might have found it necessary to use different words from those in the MCAI to ensure the AD is clear for U.S. operators and is enforceable in a U.S. court of law. In making these changes, we do not intend to differ substantively from the information provided in the MCAI and related service information.

We might also have required different actions in this AD from those in the MCAI in order to follow our FAA policies. Any such differences are described in a separate paragraph of the AD. These requirements, if any, take precedence over the actions copied from the MCAI.

Costs of Compliance

We estimate that this AD will affect about 9 products of U.S. registry. We also estimate that it will take about 12 work-hours per product to comply with this AD. The average labor rate is $80 per work-hour. Required parts will cost about $382 per product. Where the service information lists required parts costs that are covered under warranty, we have assumed that there will be no charge for these parts. As we do not control warranty coverage for affected parties, some parties may incur costs higher than estimated here. Based on these figures, we estimate the cost of this AD to the U.S. operators to be $12,078, or $1,342 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD Docket.

Examining the AD Docket

You may examine the AD docket on the Internet at http://dms.dot.gov; or in person at the Docket Operations office between 9 a.m. and 5 p.m., Monday through Friday, except Federal holidays. The AD docket contains the NPRM, the regulatory evaluation, any comments received, and other information. The street address for the Docket Operations office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2007-16-02 Airbus: Amendment 39-15141. Docket No. FAA-2007-27741; Directorate Identifier 2006-NM-261-AD.

Effective Date

(a) This airworthiness directive (AD) becomes effective September 13, 2007.

Affected ADs

(b) None.

Applicability

(c) This AD applies to the airplanes identified in paragraphs (c)(1) and (c)(2) of this AD; certificated in any category; except as provided by paragraph (c)(3) of this AD.

(1) Airbus Model A330-201, -202, -203, -223, -243, -301, -321, -322, -323, -341, -342, and -343 airplanes, all serial numbers, except those on which Airbus modification 49202 has been embodied in production, or Airbus Service Bulletin A330-57-3090 has been embodied in service.

(2) Airbus Model A340-200 and -300 series airplanes, all certified models, all serial numbers, except those on which Airbus modification 49202 has been embodied in production or Airbus Service Bulletin A340-57-4098 has been embodied in service.

(3) This AD does not apply to Model A340-200 and -300 series airplanes repaired in accordance with Airbus Repair Drawing R57115053, R57115051, or R57115047 (installation of titanium doubler). These airplanes are covered by European Aviation Safety Agency (EASA) airworthiness directive 2006-0314, dated October 13, 2006. On May 25, 2007, we issued AD 2007-12-08, amendment 39-15086 (72 FR 31171, June 6, 2007), which is the parallel FAA AD to EASA airworthiness directive 2006-0314.

Reason

(d) The mandatory continuing airworthiness information (MCAI) states that during the A330 and A340 aircraft fatigue test, cracks appeared on the right and left sides between the crossing area of the keel beam fitting and the front spar on the center wing box (CWB). This situation if not corrected can lead in the worst case to keel beam rupture which affects the structural integrity of the area. In order to maintain the structural integrity of the aircraft, the MCAI requires a repetitive special detailed inspection on the horizontal flange of the keel beam in the area of the first fastener hole aft of FR (frame) 40, follow-up actions, and repair if necessary. The MCAI also includes an optional terminating action for the repetitive inspections.

Actions and Compliance

(e) Unless already done, do the following actions.

(1) Within the mandatory threshold (flight cycles or flight hours) mentioned in the paragraph 1.E.(2) of Airbus Service Bulletin A340-57-4089, Revision 02; or A330-57-3081, Revision 02; both dated January 24, 2006, depending on the configuration of the aircraft model; or within 3 months after the effective date of this AD; whichever occurs later: Carry out the NDT (non-destructive test) inspection of the hole(s) of the horizontal flange of the keel beam located on FR 40 datum on RH (right-hand) and/or LH (left-hand) side of the fuselage, in accordance with the instructions of Airbus Service Bulletin A340-57-4089, Revision 02; or A330-57-3081, Revision 02; as applicable. Inspection in accordance with Airbus A330/A340 Technical Disposition F57D03012810, Issue B, dated August 18, 2003; or 582.0651/2002, Issue A, dated October 17, 2002; satisfies the inspection requirements for the first rotating probe inspection which is specified at the inspection threshold of this AD.

Note 1: In order to prevent large repairs or heavy maintenance, Airbus recommends to perform the above inspection according to recommended thresholds mentioned in paragraph 1.E.(2) of Airbus Service Bulletin A340-57-4089, Revision 02; or Airbus Service Bulletin A330-57-3081, Revision 02; both dated January 24, 2006.

(2) In case of any crack finding, before further flight, contact Airbus in order to get repair instructions before next flight, and repair before further flight.

(3) Should no crack be detected:

(i) Before further flight: Follow up the actions indicated in the flow charts, figure 7, 8, or 9, of Airbus Service Bulletin A340-57-4089, including Appendix 01, Revision 02, dated January 24, 2006; or figure 5, 6, or 7, of Airbus Service Bulletin A330-57-3081, including Appendix 01, Revision 02, dated January 24, 2006; in accordance with the instructions of the applicable service bulletin.

(ii) Within 30 days after the effective date of this AD, or within 30 days after doing the inspection required by paragraph (e)(1) of this AD, whichever occurs later: Send the report of actions carried out in paragraph (e)(3)(i) of this AD to Airbus.

(iii) Renew the inspection at mandatory intervals given in paragraph 1.E.(2) of Airbus Service Bulletin A340-57-4089, Revision 02, dated January 24, 2006; or Airbus Service Bulletin A330-57-3081, Revision 02, dated January 24, 2006; as applicable; in accordance with the instructions of Service Bulletin A340-57-4089, Revision 02, or Service Bulletin A330-57-3081, Revision 02; as applicable, and send the inspection results to Airbus.

Note 2: In order to prevent large repairs or heavy maintenance, Airbus recommends to perform the above repetitive inspection according to recommended intervals mentioned in paragraph 1.E.(2) of Airbus Service Bulletin A340-57-4089, Revision 02, dated January 24, 2006; or Airbus Service Bulletin A330-57-3081, Revision 02, dated January 24, 2006.

(4) Upon detection of a crack during a repetitive inspection, before further flight, contact Airbus to get repair instructions, and repair before further flight.

(5) No additional work is required for aircraft inspected in accordance with the instructions of Airbus Service Bulletin A330-57-3081, dated October 30, 2003, or Revision 01, dated May 18, 2004; or Airbus Service Bulletin A340-57-4089, dated October 30, 2003, or Revision 01, dated March 2, 2004. Nevertheless, the operators must check that their inspection program is in accordance with paragraph 1.E.(2) of Airbus Service Bulletin A340-57-4089, Revision 02, dated January 24, 2006; or Airbus Service Bulletin A330-57-3081, Revision 02, dated January 24, 2006; as applicable; for the repetitive inspection.

(6) For aircraft on which Airbus Modification 41652 is not embodied: When the aircraft has been modified in accordance with Airbus Service Bulletin A330-57-3090, dated March 27, 2006; or Airbus Service Bulletin A340-57-4098, dated March 27, 2006; as applicable; the repetitive inspections required by this AD are cancelled. In case of any crack finding during the modification: Where the applicable service bulletin specifies to contact Airbus, before further flight, contact Airbus to get repair instructions, and repair.

FAA AD Differences

Note: This AD differs from the MCAI and/or service information as follows. The MCAI did not have a required action if cracks are found during a repetitive inspection. This AD requires contacting Airbus for repair instructions and repairing before further flight.

Other FAA AD Provisions

(f) The following provisions also apply to this AD:

(1) Alternative Methods of Compliance (AMOCs): The Manager, ANM-116, Transport Airplane Directorate, FAA, has the authority to approve AMOCs for this AD, if requested using the procedures found in 14 CFR 39.19. Send information to ATTN: Tim Backman, Aerospace Engineer, International Branch, ANM-116, FAA, Transport Airplane Directorate, 1601 Lind Avenue SW., Renton, Washington 98057-3356. Before using any approved AMOC on any airplane to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act, the Office of Management and Budget (OMB) has approved the information collection requirements and has assigned OMB Control Number 2120-0056.

Related Information

(g) Refer to MCAI EASA Airworthiness Directive 2006-0315 R1, dated October 26, 2006, and the service information listed in Table 1 of this AD, for related information.

Table 1.—Related Service Information
Airbus Service Bulletin | Revision level | Date
A330-57-3081 | 02 | January 24, 2006.
A330-57-3090 | Original | March 27, 2006.
A340-57-4089 | 02 | January 24, 2006.
A340-57-4098 | Original | March 27, 2006.

Material Incorporated by Reference

(h) You must use the applicable service information specified in Table 2 of this AD to do the actions required by this AD, unless the AD specifies otherwise. If you accomplish the optional terminating modification specified in this AD, you must use the applicable service information specified in Table 3 of this AD.

Table 2.—Required Material Incorporated by Reference
Airbus Service Bulletin | Revision | Date
A330-57-3081, including Appendix 01 | 02 | January 24, 2006.
A340-57-4089, including Appendix 01 | 02 | January 24, 2006.

Table 3.—Optional Material Incorporated by Reference
Airbus Service Bulletin | Date
A330-57-3090 | March 27, 2006.
A340-57-4098 | March 27, 2006.

(1) The Director of the Federal Register approved the incorporation by reference of this service information under 5 U.S.C. 552(a) and 1 CFR part 51.

(2) For service information identified in this AD, contact Airbus, 1 Rond Point Maurice Bellonte, 31707 Blagnac Cedex, France.

(3) You may review copies at the FAA, Transport Airplane Directorate, 1601 Lind Avenue SW., Renton, Washington; or at the National Archives and Records Administration (NARA). For information on the availability of this material at NARA, call 202-741-6030, or go to: http://www.archives.gov/federal-register/cfr/ibr-locations.html.

Issued in Renton, Washington, on July 24, 2007.
Stephen P. Boyd,
Acting Manager, Transport Airplane Directorate, Aircraft Certification Service.

[FR Doc. E7-14866 Filed 8-8-07; 8:45 am]

BILLING CODE 4910-13-P